DEPARTMENT OF ENERGY

Federal Energy Regulatory Commission

Combined Notice of Filings #1

August 13, 2010.

Take notice that the Commission received the following exempt wholesale generator filings:

Docket Numbers: EG10-57-000.

Applicants: Lakefield Wind Project, LLC.

Description: Notice of Self-Certification of Exempt Wholesale Generator Status of Lakefield Wind Project, LLC.

Filed Date: 08/11/2010.

Accession Number: 20100811-5131.

Comment Date: 5 p.m. Eastern Time on Wednesday, September 1, 2010.

Take notice that the Commission received the following electric rate filings:

Docket Numbers: ER10-1195-001.

Applicants: NV Energy, Inc.

Description: NV Energy submits First Revised Service Agreement 10-0560, to include an executed Amendment 1 to the Engineering and Procurement Agreement with Spring Valley Wind LLC.

Filed Date: 08/12/2010.

Accession Number: 20100813-0201.

Comment Date: 5 p.m. Eastern Time on Thursday, September 2, 2010.

Docket Numbers: ER10-2205-000.

Applicants: Nexen Marketing.

Description: Nexen Marketing USA, Inc submits its Notice of Cancellation.

Filed Date: 08/11/2010.

Accession Number: 20100812-0205.

Comment Date: 5 p.m. Eastern Time on Wednesday, September 1, 2010.

Docket Numbers: ER10-2206-000; ER10-2207-000.

Applicants: NASDAQ OMX Commodities Clearing—Contract LLC; NASDAQ OMX Commodities Clearing—Finance, LLC.

Description: NASDAQ OMX Commodities Clearing—Contract Merchant LLC submits notices of cancellation of Contract Merchant's and Finance's market based-rate tariffs.

Filed Date: 08/11/2010.

Accession Number: 20100812-0204.

Comment Date: 5 p.m. Eastern Time on Wednesday, September 1, 2010.

Docket Numbers: ER10-2208-000.

Applicants: Energy Systems North East, LLC.

Description: Energy Systems North East, LLC submits notice of cancellation of its FERC Electric Tariff, Original Volume 1, Original Sheet 1-2.

Filed Date: 08/11/2010.

Accession Number: 20100812-0203.

Comment Date: 5 p.m. Eastern Time on Wednesday, September 1, 2010.

Docket Numbers: ER10-2209-000.

Applicants: PJM Interconnection L.L.C.

Description: PJM Interconnection, L.L.C. submits an interconnection service agreement.

Filed Date: 08/11/2010.

Accession Number: 20100812-0202.

Comment Date: 5 p.m. Eastern Time on Wednesday, September 1, 2010.

Docket Numbers: ER10-2215-000.

Applicants: SU FERC, L.L.C.

Description: SU FERC, L.L.C. submits Notice of Succession to reflect their succession to and adoption of the Open Access Transmission Taridd of NewCorp Resources Electric Cooperative, Inc.

Filed Date: 08/12/2010.

Accession Number: 20100813-0202.

Comment Date: 5 p.m. Eastern Time on Thursday, September 2, 2010.

Docket Numbers: ER10-2216-000.

Applicants: Entergy Arkansas, Inc.

Description: Entergy Arkansas, Inc. submits tariff filing per 35: Entergy Operating Companies OATT Baseline Filing to be effective 7/9/2010.

Filed Date: 08/13/2010.

Accession Number: 20100813-5019.

Comment Date: 5 p.m. Eastern Time on Friday, September 3, 2010.

Docket Numbers: ER10-2217-000.

Applicants: Front Range Power Company, LLC.

Description: Front Range Power Company, LLC submits tariff filing per 35.12: Front Range Power Company, LLC FERC Electric Tariff No. 1 to be effective 8/13/2010.

Filed Date: 08/13/2010.

Accession Number: 20100813-5027.

Comment Date: 5 p.m. Eastern Time on Friday, September 3, 2010.

Docket Numbers: ER10-2218-000.

Applicants: Orlando CoGen Limited, L.P.

Description: Orlando CoGen Limited, L.P. submits tariff filing per 35.12: Orlando CoGen Limited, L.P. FERC Electric Tariff No. 1 to be effective 8/13/2010.

Filed Date: 08/13/2010.

Accession Number: 20100813-5031.

Comment Date: 5 p.m. Eastern Time on Friday, September 3, 2010.

Docket Numbers: ER10-2219-000.

Applicants: Pacific Gas and Electric Company.

Description: Pacific Gas and Electric Company submits tariff filing per 35.13(a)(2)(iii): Large Generator Interconnection Procedures & Agreement of PG&E's WD Tariff to be effective 8/13/2010.

Filed Date: 08/13/2010.

Accession Number: 20100813-5053.

Comment Date: 5 p.m. Eastern Time on Friday, September 3, 2010.

Docket Numbers: ER10-2220-000.

Applicants: New York Independent System Operator, Inc.

Description: New York Independent System Operator submits tariff filing per 35.13(a)(2)(iii): 205 Filing—ROS Mitigation—Schnell 8/13/10 to be effective 10/12/2010.

Filed Date: 08/13/2010.

Accession Number: 20100813-5057.

Comment Date: 5 p.m. Eastern Time on Friday, September 3, 2010.

Docket Numbers: ER10-2221-000.

Applicants: NASDAQ OMX Commodities Clearing Company.

Description: NASDAQ OMX Commodities Clearing Company submits tariff filing per 35.13(a)(2)(iii): Notice of Succession of NASDAQ OMX Commodities Clearing Company to be effective 8/10/2010.

Filed Date: 08/13/2010.

Accession Number: 20100813-5061.

Comment Date: 5 p.m. Eastern Time on Friday, September 3, 2010.

Docket Numbers: ER10-2222-000.

Applicants: Southern California Edison Company.

Description: Southern California Edison Company submits tariff filing per 35.13(a)(2)(iii): SA Riverside N Corona R 081310 to be effective 9/1/2010.

Filed Date: 08/13/2010.

Accession Number: 20100813-5062.

Comment Date: 5 p.m. Eastern Time on Friday, September 3, 2010.

Docket Numbers: ER10-2223-000.

Applicants: Entergy Mississippi, Inc.

Description: Entergy Mississippi, Inc. submits tariff filing per 35: EMI OATT Baseline Filing, to be effective 8/2/2010.

Filed Date: 08/13/2010.

Accession Number: 20100813-5066.

Comment Date: 5 p.m. Eastern Time on Friday, September 3, 2010.

Docket Numbers: ER10-2224-000.

Applicants: Entergy Texas, Inc.

Description: Entergy Texas, Inc. submits tariff filing per 35: ETI OATT Baseline Filing to be effective 7/9/2010.

Filed Date: 08/13/2010.

Accession Number: 20100813-5068.

Comment Date: 5 p.m. Eastern Time on Friday, September 3, 2010.

Docket Numbers: ER10-2225-000.

Applicants: Southwest Power Pool, Inc.

Description: Southwest Power Pool, Inc. submits tariff filing per 35.13(a)(2)(iii): 1067 SubR1 East Texas Elec. Coop. NITSA and NOA Original Docket No. ER10-698 to be effective 7/30/2010.

Filed Date: 08/13/2010.

Accession Number: 20100813-5069.

Comment Date: 5 p.m. Eastern Time on Friday, September 3, 2010.

Docket Numbers: ER10-2226-000.

Applicants: Entergy Louisiana, LLC.

Description: Entergy Louisiana, LLC submits tariff filing per 35: ELL OATT Baseline Filing to be effective 8/2/2010.

Filed Date: 08/13/2010.

Accession Number: 20100813-5079.

Comment Date: 5 p.m. Eastern Time on Friday, September 3, 2010.

Docket Numbers: ER10-2227-000.

Applicants: Southwest Power Pool, Inc.

Description: Southwest Power Pool, Inc. submits tariff filing per 35.13(a)(2)(iii): 1065 SubR1 Tex-La Elec. NITSA and NOA Original Docket No. ER10-694 to be effective 7/30/2010.

Filed Date: 08/13/2010.

Accession Number: 20100813-5080.

Comment Date: 5 p.m. Eastern Time on Friday, September 3, 2010.

Take notice that the Commission received the following open access transmission tariff filings:

Docket Numbers: OA10-12-000.

Applicants: SU FERC, L.L.C.

Description: SU FERC, L.L.C. Request continued Waiver of Requirements of Order Nos. 889 and 890 and Standards of Conduct.

Filed Date: 08/12/2010.

Accession Number: 20100812-5116.

Comment Date: 5 p.m. Eastern Time on Thursday, September 2, 2010.

Take notice that the Commission received the following public utility holding company filings:

Docket Numbers: PH10-18-000.

Applicants: HH-SU Investments L.L.C.

Description: Notice of Material Change of HH-SU Investments L.L.C.

Filed Date: 08/12/2010.

Accession Number: 20100812-5118.

Comment Date: 5 p.m. Eastern Time on Thursday, September 2, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov, or call (866) 208-3676 (toll free). For TTY, call (202) 502-8659.

Nathaniel J. Davis, Sr.,
Deputy Secretary.

[FR Doc. 2010-20650 Filed 8-19-10; 8:45 am]

BILLING CODE 6717-01-P